DEPARTMENT OF HEALTH AND HUMAN SERVICES

Substance Abuse and Mental Health Services Administration

Center for Substance Abuse Treatment; Amendment of Meeting Notice

Pursuant to Public Law 92-463, notice is hereby given of a correction of a notice of meeting of the Center for Substance Abuse Treatment (CSAT) National Advisory Council to be held in September 2001.

Public notice was given in the Federal Register on August 29, 2001, Volume 66, Number 168, page 45689 that the CSAT National Advisory Council would be meeting in Closed Session on September 12, 2001 at the Bethesda Hyatt Hotel, One Bethesda Metro, Bethesda, Maryland. The dates of this meeting have subsequently changed to include a Closed Session on September 13, 2001, 8:30 a.m.—9:30 a.m. The agenda of the meeting has been changed to reflect the September 13 Closed Session Meeting. The contact for additional information remain as announced.

Dated: September 10, 2001.
Toian Vaughn,
Committee Management Officer, Substance Abuse and Mental Health Services Administration.

[FR Doc. 01-23160 Filed 9-14-01; 8:45 am]

BILLING CODE 4162-20-P